DEPARTMENT OF HOMELAND SECURITY

Federal Emergency Management Agency

[Docket ID: FEMA-2013-0051; OMB No. 1660-0127]

Agency Information Collection Activities: Proposed Collection; Comment Request; Logistics Capability Assistance Tool (LCAT)

AGENCY: Federal Emergency Management Agency, DHS.

ACTION: Notice.

SUMMARY: The Federal Emergency Management Agency, as part of its continuing effort to reduce paperwork and respondent burden, invites the general public and other Federal agencies to take this opportunity to comment on a revision of a currently approved information collection. In accordance with the Paperwork Reduction Act of 1995, this notice seeks comments concerning the Logistics Capability Assistance Tool (LCAT).

DATES: Comments must be submitted on or before February 7, 2014.

ADDRESSES: To avoid duplicate submissions to the docket, please use only one of the following means to submit comments:

(1) Online. Submit comments at http://www.regulations.gov under Docket ID FEMA-2013-0051. Follow the instructions for submitting comments.

(2) Mail. Submit written comments to Docket Manager, Office of Chief Counsel, DHS/FEMA, 500 C Street SW., Room 8NE, Washington, DC 20472-3100.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of http://www.regulations.gov.

FOR FURTHER INFORMATION CONTACT: Megan Repass, Program Analyst, Logistics Management Directorate, Logistics Plans & Exercises Division, 202-646-2522 for additional information. You may contact the Records Management Division for copies of the proposed collection of information at facsimile number (202) 646-3347 or email address: FEMA-Information-Collections-Management@dhs.gov.

SUPPLEMENTARY INFORMATION: The Logistics Capability Assistance Tool (LCAT) is tailored for use by state, local, and tribal entities to evaluate their current disaster logistics readiness, identify areas for targeted improvement, and develop a roadmap to both mitigate weaknesses and further enhance strengths. The LCAT is authorized by Public Law 109-295, Department of Homeland Security Appropriations Act, 2007, and Title VI of the Post-Katrina Emergency Reform Act of 2006, Sections 636 and 637 (6 U.S.C. 636 and 637).

Collection of Information

Title: Logistics Capability Assistance Tool (LCAT).

OMB Number: 1660-0127.

Type of Information Collection: Revision of a currently approved information collection.

FEMA Forms: FEMA Form 008-0-1, State Content Guide (formerly LCAT Booklet); FEMA Form 008-0-2, Local Content Guide; FEMA Form 008-0-3, Tribal Content Guide.

Abstract: The Logistics Capability Assistance Tool (LCAT) is a voluntary maturity model for state, local, and tribal entities to self-assess their disaster logistics planning and response capabilities and identify areas of relative strength and weakness. The LCAT is facilitated through two-day collaborative sessions and is hosted by the requesting emergency management agency's office. FEMA provides the emergency management agencies with a detailed analysis report and roadmap for continuous improvement if the state, local, or tribal entity decides to share the outcome.

Affected Public: State, local, or Tribal Government.

Number of Respondents: 41.

Number of Responses: 41.

Estimated Total Annual Burden Hours: 363 hours.

Estimated Annualized Burden Hours and Costs
Type of respondent | Form name/form No. | Number of respondents | Number of responses per respondent | Total number of responses | Average burden per response (in hours) | Total annual burden (in hours) | Average hourly wage rate | Total annual respondent cost
State, Local or Tribal Government | LCAT Briefing/No Form | 11 | 1 | 11 | 0.33 hour (20 minutes) | 3.3 | $43.57 | $158.16
State, Local or Tribal Government | State Content Guide and Instructions/FEMA Form 008-0-1 | 10 | 1 | 10 | 12 hours | 120 | 43.57 | 5,228.40
State, Local or Tribal Government | Local Content Guide/FEMA Form 008-0-2 | 10 | 1 | 10 | 12 hours | 120 | 43.57 | 5,228.40
State, Local or Tribal Government | Tribal Content Guide/FEMA Form 008-0-3 | 10 | 1 | 10 | 12 hours | 120 | 43.57 | 5,228.40
Total |  | 41 |  | 41 |  | 363 |  | 15,843.36
• Note: The “Avg. Hourly Wage Rate” for each respondent includes a 1.4 multiplier to reflect a fully-loaded wage rate.

Estimated Cost: The estimated annual cost to respondents for the hour burden is $15,843.36. There are no annual costs to respondents operations and maintenance costs for technical services. There is no annual start-up or capital costs. The cost to the Federal Government is $252,340.00.

Comments

Comments may be submitted as indicated in the ADDRESSES caption above. Comments are solicited to (a) Evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: November 26, 2013.
Charlene D. Myrthil,
Director, Records Management Division, Mission Support Bureau, Federal Emergency Management Agency, Department of Homeland Security.

[FR Doc. 2013-29251 Filed 12-6-13; 8:45 am]

BILLING CODE 9111-23-P